FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011730-005.

Title: GWF/Dole Space Charter and Sailing Agreement.

Parties: Dole Ocean Cargo Express, Inc. and Great White Fleet Liner Services Ltd.

Filing Party: Wade S. Hooker, Esq., 211 Central Park West, New York, NY 10024.

Synopsis: The amendment changes the addresses of the principal offices of the parties.

Agreement No.: 012178-001.

Title: GWF/Crowley Space Charter Agreement.

Parties: Great White Fleet Liner Services Ltd. and Crowley Latin American Services, LLC.

Filing Party: Wade S. Hooker, Esquire, 211 Central Park W., New York, NY 10024.

Synopsis: The amendment changes the addresses of the principal office of Great White Fleet and Crowley Latin American Services.

Agreement No.: 012055-002.

Title: Maersk Line/CMA CGM Cooperative Working Agreement.

Parties: A.P. Moller-Maersk A/S, and CMA CGM S.A.

Filing Party: Wayne R. Rohde, Esq.; Cozen O'Connor; 1627 I Street NW., Suite 1100; Washington, DC 20006-4007.

Synopsis: The amendment would expand the geographic scope of the agreement to cover the trades between the U.S. and all foreign countries and would revise language in the authority regarding jointly negotiating individual contracts.

Agreement No.: 012163-001.

Title: MSC/CMA CGM U.S. East Coast—East Coast South America Service Space Charter Agreement.

Parties: Mediterranean Shipping Company S.A. and CMA CGM S.A.

Filing Party: Wayne R. Rohde, Esq.; Cozen O'Connor; 1627 I Street NW., Suite 1100; Washington, DC 20006-4007.

Synopsis: The agreement would add Dominican Republic and Jamaica to the geographic scope of the agreement.

By Order of the Federal Maritime Commission.
Dated: September 27, 2012.
Karen V. Gregory,
Secretary.

[FR Doc. 2012-24421 Filed 10-2-12; 8:45 am]

BILLING CODE 6730-01-P